DEPARTMENT OF HEALTH AND HUMAN SERVICES

Order of Succession

AGENCY: Centers for Disease Control and Prevention (CDC), Department of Health and Human Services (HHS).

ACTION: General notice.

Section C-C, Order of Succession, is hereby amended as follows:

Delete in its entirety Section C-C, Order of Succession, and insert the following:

During the absence or disability of the Director, CDC, or in the event of a vacancy in that office, the first official listed below who is available shall act as Director, except that during a planned period of absence, the Director may specify a different order of succession:

1. Principal Deputy Director

2. Deputy Director for Program and Science and CDC Chief Medical Officer

3. Deputy Director for Policy, Communication, and Legislative Affairs and CDC Chief Strategy Officer

4. Director of the Office of Readiness and Response

5. Director of the National Center for Emerging and Zoonotic Infectious Diseases

6. Director of the National Center for Immunization and Respiratory Diseases

Robin Bailey,
Chief Operating Officer, Centers for Disease Control and Prevention.

[FR Doc. 2024-14500 Filed 7-1-24; 8:45 am]

BILLING CODE 4160-18-P